DEPARTMENT OF TRANSPORTATION

Office of the Secretary

[Docket No. DOT-OST-2007-0108]

National Task Force To Develop Model Contingency Plans To Deal With Lengthy Airline On-Board Ground Delays

AGENCY: Office of the Secretary (OST), Department of Transportation (DOT).

ACTION: Notice of Intent (NOI) to Form an Advisory Committee.

SUMMARY: OST is establishing a National Task Force to develop model contingency plans to deal with lengthy airline on-board ground delays. The Task Force will be composed of individuals appointed by the Secretary of Transportation who represent a cross-section of the diverse agencies, organizations and individuals that represent airlines, airports and consumer groups in the U.S. The Task Force will also ensure that members of the public are able to present their views to it. The purpose of this notice is to invite interested parties, organizations, and individuals, to submit applications to be considered for representation on the Task Force.

DATES: Comments and/or applications for membership or nominations for membership on the Task Force must be received on or before January 4, 2008.

FOR FURTHER INFORMATION CONTACT: Livaughn Chapman, Jr., Office of the General Counsel, U.S. Department of Transportation, 1200 New Jersey Ave., SE., W-96-429, Washington, DC 20590-0001; Phone: (202) 366-9342; Fax: (202) 366-7152; E-mail: Livaughn.Chapman@dot.gov.

ADDRESSES: You may submit comments or applications by any of the following methods:

• Web site: http://www.regulations.gov.

• Fax: 1-202-493-2251.

• Mail: Docket Management Facility, U.S. Department of Transportation, 1200 New Jersey Ave., SE., Washington, DC 20590-0001.

• Hand Delivery: West Building, Ground Floor, Rm. W-12-140, 1200 New Jersey Ave., SE., Washington, DC 20590-0001 (between 9 a.m. and 5 p.m. EST, Monday through Friday, except on Federal holidays).

Instructions: All submissions must include the agency name and docket number for this notice. Note that all filings received will be posted without change to http://www.regulations.gov, including any personal information provided.

Docket: For access to the docket to read background documents, go to http://www.regulations.gov at any time or West Building, Ground Floor, Rm. W-12-140, 1200 New Jersey Ave., SE., Washington, DC 20590-0001, between 9 a.m. and 5 p.m. EST, Monday through Friday, except Federal holidays.

SUPPLEMENTARY INFORMATION:

Background

DOT's Office of Inspector General recommended, in its audit report, entitled “Actions Needed to Minimize Long, On-Board Flight Delays,” issued on September 25, 2007, that the Secretary of Transportation establish a national task force of airlines, airports, and the Federal Aviation Administration to coordinate and develop contingency plans to deal with lengthy delays, such as working with carriers and airports to share facilities and make gates available in an emergency. The Department is taking action to effectuate this recommendation.

A. Notice of Intent To Establish a Task Force and Request for Comment

In accordance with the requirements of the Federal Advisory Committee Act (FACA), an agency of the Federal government cannot establish or utilize a group of people in the interest of obtaining consensus advice or recommendations unless that group is chartered as a Federal advisory committee. The purpose of this notice is to indicate that it is OST's intent to create a Task Force to develop model contingency plans to deal with lengthy airline on-board ground delays. OST has determined that the establishment of this Task Force is necessary and in the public interest.

B. Name of Committee

National Task Force To Develop Model Contingency Plans To Deal With Lengthy Airline On-Board Ground Delays.

C. Purpose and Objective

(1) The Task Force will develop model contingency plans for minimizing the impact of lengthy airline on-board ground delays.

(2) The Task Force will be responsible for reviewing incidents involving long, on-board ground delays and their causes; identifying trends and patterns of such events; and recommending workable solutions for mitigating the on-board consumer impact of extraordinary flight disruptions.

(3) The Task Force will report to the Secretary of Transportation the results of its consideration and a description of model contingency plans it develops.

(4) The Task Force will not exercise program management, regulatory or program guidance responsibilities. It will make no decision directly affecting the programs on which it provides advice. The Task Force will provide a forum for the development, consideration, and communication from a knowledgeable and independent perspective of a strategy for dealing with lengthy on-board ground delays nationwide.

D. Balanced Membership Plans

The Task Force will be composed of individuals appointed by the Secretary of Transportation. Task Force members will represent a cross-section of the diverse agencies, organizations and individuals that represent airlines, airports and consumer groups in the U.S.

This document gives notice to potential participants of the process and affords them the opportunity to request representation on the Task Force. The procedure for requesting such representation is set out below. In addition, we invite comments and suggestions for potential participants.

OST is aware that there are many more potential organizations and participants than there are membership positions on the Task Force. It is very important to recognize that interested parties who are not selected for membership on the Task Force can make valuable contributions to the work of the Task Force in several ways. For example, the person or organization could request to be placed on the Task Force mailing list and may submit written comments to the Task Force.

Further, any member of the public is welcome to attend Task Force meetings, and, as provided in the FACA, speak to the Task Force. Time will be set aside during meetings for this purpose as appropriate.

E. Applications for Membership

Each Application for membership or nomination to the Task Force should include:

(1) A brief resume or letter (no more than one page) demonstrating the applicant or nominee's unique qualifications and why they are interested in serving on the Task Force (please note, resumes or letters will be posted on the public docket and therefore should not contain personal information such as date of birth, etc.)

(2) Evidence that the applicant or nominee is authorized to represent parties related to the interest(s) the person proposes to represent; and

(3) A written commitment that the applicant or nominee would participate in good faith.

Since all comments and/or applications for membership or nominations for membership on the Task Force will be posted on the Public Docket, we encourage you to include only that information you are willing to provide for the public docket and submit your application electronically using the docket number provided on this notice through the Federal Docket Management System found at http://www.regulations.gov.

F. Duration

The Task Force will terminate one year after the date of the filing of the Task Force charter unless prior to that time the charter is terminated or extended in accordance with the FACA.

G. Notice of Establishment

After evaluating applications and nominations received as a result of this notice, the Department will publish in the Federal Register a notice announcing the establishment and composition of the Task Force.

Issued on: December 17, 2007.
Samuel Podberesky,
Assistant General Counsel for Aviation Enforcement & Proceedings, U.S. Department of Transportation.

[FR Doc. E7-24745 Filed 12-19-07; 8:45 am]

BILLING CODE 4910-9X-P